DEPARTMENT OF AGRICULTURE

Commodity Credit Corporation

Farm Service Agency

Information Collection; Application for Payment of Amounts Due Persons Who Have Died, Disappeared, or Have Been Declared Incompetent

AGENCY: Commodity Credit Corporation and Farm Service Agency, USDA.

ACTION: Notice and request for comments.

SUMMARY: In accordance with the Paperwork Reduction Act of 1995, the Commodity Credit Corporation (CCC) and the Farm Service Agency (FSA) are requesting comments from all interested individuals and organizations on an extension of a currently approved information collection. The CCC and FSA are using the collected information to determine whether representatives or survivors of a producer are entitled to receive payments earned by a producer who dies, disappears, or is declared incompetent before receiving payments or other disbursements.

DATES: We will consider comments that we receive by August 26, 2013.

ADDRESSES: We invite you to submit comments on this notice. In your comments, include date, volume, and page number of this issue of the Federal Register. You may submit comments by any of the following methods:

• Federal eRulemaking Portal: Go to http://regulations.gov. Follow the online instructions for submitting comments.

• Mail: Rick Blackwood, Agricultural Program Specialist, USDA, FSA STOP 0572, 1400 Independence Avenue SW., Washington, DC 20250-0572.

You may also send comments to the Desk Officer for Agriculture, Office of Information and Regulatory Affairs, Office of Management and Budget, Washington, DC 20503. Copies of the information collection may be requested by contacting Rick Blackwood at the above addresses.

FOR FURTHER INFORMATION CONTACT: Rick Blackwood, Agricultural Program Specialist, (202) 720-5422, or by email: rick.blackwood@wdc.usda.gov.

SUPPLEMENTARY INFORMATION: Title: Application for Payment of Amounts Due Persons Who Have Died, Disappeared, or Have Been Declared Incompetent.

OMB Control Number: 0560-0026.

Expiration Date: December 31, 2013.

Type of Request: Extension.

Abstract: Persons desiring to claim payments earned, but not yet paid to a person who has died, disappeared, or has been declared incompetent must complete a form FSA-325, Application for Payment of Amounts Due Persons Who Have Died, Disappeared, or Have Been Declared Incompetent. This information is used by FSA county office employees to document the relationship of heirs, beneficiaries or others who claim payment that was earned, but not yet paid to the person who died, disappeared, or who has been declared incompetent, and to determine the order of precedence for disbursing payments to such persons.

Information is obtained only when a person claims that they are due a payment that was earned, but not paid to a producer that has died, disappeared, or has been declared incompetent, and documentation is needed to determine if any individuals are entitled to receive such payments or disbursements.

Estimated Average Time to Respond: Public reporting burden for this collection of information is estimated to average 1.5 hours (30 minutes) per response. The average travel time, which is included in the total annual burden, is estimated to be 1 hour per respondent.

Type of Respondents: Producers.

Estimated Number of Respondents: 2,000.

Estimated Number of Responses per Respondent: 1.

Estimated Annual Number of Responses: 2,000.

Estimated Total Annual Burden: 3,000.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility, and clarity of the information to be collected;

(4) Minimize the burden of the collection of information on those who are to respond, including through the use of appropriate automated, electronic, mechanical, or other technological collection techniques or other forms of information technology.

All responses to this notice, including name and addresses when provided, will be summarized and included in the request for OMB approval. All comments will also become a matter of public record.

Signed on June 18, 2013.
Juan M. Garcia,
Executive Vice President, Commodity Credit Corporation, and Administrator, Farm Service Agency.

[FR Doc. 2013-15334 Filed 6-26-13; 8:45 am]

BILLING CODE 3410-05-P